DEPARTMENT OF DEFENSE

Department of the Air Force

[Docket ID: USAF-2009-0020]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on April 16, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6648.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on March 9, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: March 11, 2009.
Morgan E. Frazier,
Alternate OSD Federal Register Liaison Officer, Department of Defense.

F032 AFCESA C

System Name:

Civil Engineer System—Explosive Ordnance Records.

System Location:

Department of the Air Force, 643 ELSS/EIRC, 201 East Moore Drive, Bldg 856, Gunter AFB, AL 36114-3001.

Categories of Individuals Covered by the System:

Active duty military, civilians, and Air Force contractor personnel.

Categories of Records in the System:

Full name, rank, Social Security Number (SSN), gender, place of birth, date of birth; email address; clearance and clearance investigation status; passport number, type, date and location of issue; training information to include dates of training, certifications; unit and assignment information; temporary duty information.

Authority for Maintenance of the System:

10 U.S.C. 8013, Secretary of the Air Force; 10 U.S.C. 9832, Property Accountability: Regulations; Department of Defense Directive 5210.55, Selection of DoD Military and Civilian Personnel and Contractor Employees for Assignment duties; Department of Defense Regulation 5200-2R, DoD Personnel Security Program; Air Force Instruction 33-213, Identity Management; and E.O. 9397 (SSN).

Purpose(s):

Provide accurate documentation of Explosive Ordnance Device (EOD) incident reporting to cover emergency response to improvised explosive devices, conventional munitions, airfield emergencies, support to civil authorities, and weapons of mass destruction incidents. Record individual's home-station and contingency and ancillary training requirements.

Routine Uses of Records Maintained in the System, Including Categories of Users and the Purposes of Such Uses:

Policies and Practices for Storing, Retrieving, Accessing, Retaining, and Disposing of Records in the System:

Storage:

Electronic storage media.

Retrievability:

Last name, first name, and rank.

Safeguards:

Steps have been taken to limit the access to the Privacy data to only those users with the appropriate roles. Access to records is limited to persons responsible for servicing the record in performance of their official duties and who are properly screened and cleared for need-to-know. Access to the application is restricted by passwords which are changed periodically.

Retention and Disposal:

Records are retained for 30 years or until no longer needed and then deleted from the database by erasing or degaussing.

System Manager(s) and Address:

Information Technology Program Manager, HQ AFCESA/CEOI, 139 Barnes Drive, Suite 1, Tyndall AFB, FL 32403-5319.

Notification Procedure:

Individuals seeking to determine whether this system of records contains information on themselves should address written inquiries to ACES/IWIMS Program Manager, HQ AFCESA/CEOI, 139 Barnes Drive, Suite 1, Tyndall AFB, FL 32403-5319.

Individual should provide their full name, aliases, date and place of birth, Social Security Number, service number(s), or other information verifiable from the records in written request.

Record Access Procedures:

Individuals seeking to access records about themselves contained in this system should address written requests to ACES/IWIMS Program Manager, HQ AFCESA/CEOI, 139 Barnes Drive, Suite 1, Tyndall AFB, FL 32403-5319.

Individual should provide their full name, aliases, date and place of birth, Social Security Number, service number(s), or other information verifiable from the records in written request.

Contesting Record Procedures:

The Air Force rules for accessing records, for contesting contents and appealing initial agency determinations are published in Air Force Instruction 37-132; 32 CFR part 806b; or may be obtained from the system manager.

Record Source Categories:

From the individual.

Exemptions Claimed for the System:

Records maintained in connection with providing protective services to the President and other individuals under 18 U.S.C. 3056, may be exempt pursuant to 5 U.S.C. 552a(k)(3).

An exemption rule for this record system has been promulgated in accqordance with the requirements of 5 U.S.C. 553(b)(1), (2), and (3), (c) and (e) and published in 32 CFR part 806b.

[FR Doc. E9-5707 Filed 3-16-09; 8:45 am]

BILLING CODE 5001-06-P